DEPARTMENT OF HOMELAND SECURITY

Coast Guard

33 CFR Part 117

[Docket No. USCG-2010-0972]

Drawbridge Operation Regulations; Bayou Liberty, Mile 2.0, St. Tammany Parish, Slidell, LA

AGENCY: Coast Guard, DHS.

ACTION: Notice of temporary deviation from regulations; request for comments.

SUMMARY: The Commander, Eighth Coast Guard District, has issued a temporary deviation from the regulation governing the operation of the S433 Bridge over Bayou Liberty, mile 2.0, St. Tammany Parish, Slidell, LA. This deviation will test a change to the drawbridge operation schedule to determine whether a permanent change to the schedule is needed. It will allow the bridge to remain unmanned during most of the day by requiring a one-hour notice for an opening of the draw from 7 a.m. to 7 p.m., and a two-hour notice from 7 p.m. to 7 a.m. seven days a week. The Coast Guard may publish a Supplemental Notice of Proposed Rulemaking to make this deviation permanent.

DATES: This deviation is effective from June 1, 2011 through September 9, 2011.

Comments and related material must be received by the Coast Guard on or before July 15, 2011.

ADDRESSES: You may submit comments identified by docket number USCG-2010-0972 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this proposed rule, call or e-mail Jim Wetherington; Bridge Administration Branch, Eighth Coast Guard District, telephone 504-671-2128, e-mail james.r.wetherington@uscg.mil. If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted, without change, to http://www.regulations.gov and will include any personal information you have provided.

Submitting Comments

If you submit a comment, please include the docket number for this rulemaking (USCG-2010-0972), indicate the specific section of this document to which each comment applies, and provide a reason for each suggestion or recommendation. You may submit your comments and material online (http://www.regulations.gov), or by fax, mail or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an e-mail address, or a phone number in the body of your document so that we can contact you if we have questions regarding your submission.

To submit your comment online, go to http://www.regulations.gov, click on the “submit a comment” box, which will then become highlighted in blue. In the “Keyword” box insert “USCG-2010-0972,” click “Search,” and then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period and may change the rule based on your comments.

Viewing Comments and Documents

To view comments, as well as documents mentioned in this preamble as being available in the docket, go to http://www.regulations.gov, click on the “read comments” box, which will then become highlighted in blue. In the “Keyword” box insert “USCG-2010-0972” and click “Search.” Click the “Open Docket Folder” in the “Actions” column. You may also visit the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But you may submit a request for one using one of the four methods specified under ADDRESSES. Please explain why one would be beneficial. If we determine that one would aid this rulemaking, we will hold one at a time and place announced by a later notice in the Federal Register.

For information on facilities or services for individuals with disabilities or to request special assistance at the public meeting, contact Jim Wetherington at the telephone number or e-mail address indicated under the FOR FURTHER INFORMATION CONTACT section of this notice.

Basis and Purpose

The subject bridge is the S443 Swing Bridge across the Bayou Liberty at mile 2.0, in St. Tammany Parish. The vertical clearance is 7.59 feet (2.31m) above the 2% flowline, elevation 2.5 feet (0.76m) NAVD 1988.

Presently, under 33 CFR 117.469, the draw of the S433 Bridge, mile 2.0, at Slidell, shall open on signal, except that between 7 p.m. and 7 a.m., the draw shall open on signal if at least two hours notice is given.

The owner requests a test to allow the public to experience and then comment on the proposed schedule. The current regulation has been in effect since 2008; however, the bridge for which the regulation was in place (a pontoon bridge) no longer exists. With the completion of the new bridge (a swing bridge) in April 2010, it was shown that there was an average of less than one opening per month which is a marked decrease from an average of 70 per month the previous year. Currently, most traffic, land and marine, is local with land traffic outpacing marine traffic, and most marine traffic is recreational. Vessels will be able to pass under the bridge during the deviation and therefore no alternate routes are recommended at this time.

This deviation is effective from June 1, 2011 through September 9, 2011.

Vessel counts were collected and analyzed by the owner and reflect a marked reduction in the number of required openings since the completion of the new bridge and removal of the old one. The expected impact on navigation during the test period will be minimal based on the increase in vertical clearance and the recorded decrease in number of requested openings. The test deviation will allow the bridge to remain unmanned during most of the day by requiring a one-hour notice for an opening of the draw Monday through Friday from 7 a.m. to 7 p.m. and a two-hour notice from 7 p.m. to 7 a.m. seven days a week.

Coordination with mariners will be through Public Notice and Local Notice to Mariners upon date of publication in the Federal Register.

In accordance with 33 CFR 117.35(e), the drawbridge must return to its regular operating schedule immediately at the end of the designated time period.

This deviation from the operating regulations is authorized under 33 CFR 117.35.

Dated: March 21, 2011.
David M. Frank,
Bridge Administrator.

[FR Doc. 2011-12003 Filed 5-16-11; 8:45 am]

BILLING CODE 9110-04-P